Title 3—

The President

Memorandum of February 23, 2004

Delegation of Certain Authority Under the United States Leadership Against HIV/AIDS, Tuberculosis, and Malaria Act of 2003

Memorandum for the Secretary of State

By the authority vested in me as President by the Constitution and the laws of the United States, including section 301 of title 3, United States Code, I hereby delegate to you the functions and authority conferred upon the President by sections 202(c), 305, and 313 of the United States Leadership Against HIV/AIDS, Tuberculosis, and Malaria Act of 2003 (Public Law 108-25), to provide the specified reports to the Congress. In addition, I delegate to you the authority vested in the President by section 101 of Public Law 108-25 to establish a comprehensive, integrated, 5-year strategy to combat global HIV/AIDS and to submit to the appropriate congressional committees a report setting forth the strategy.

You are authorized and directed to publish this memorandum in the Federal Register.

B

THE WHITE HOUSE,

Washington, February 23, 2004.

[FR Doc. 04-4458

Filed 2-26-04; 9:20 am]

Billing code 4710-10-P